DEPARTMENT OF TRANSPORTATION

Federal Aviation Administration

14 CFR Part 97

[Docket No.30319; Amdt. No. 3013 ]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: PO Box 25082, Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which create the need for some SIAP amendments may require making them effective in less than 30 days. For the remaining SIAPs, an effective date at least 30 days after publication is provided.

Further, the SIPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPS effective in less than 30 days.

Conclusions

The FAA has determined that this regulation only inolvoles an established body of technical regulations for which frequent and routine amendments are necessary to keep them operationally current. It, therefore—(1) is not a “significant regulatory action” under Executive Order 12866; (2) is not a “significant rule” under DOT Regulatory Policies and Procrdures (44 FR 11034; February 26, 1979); and (3) does not warrant preparatioun of a regulatory evluation as the anticipated impact is so minimal. For the same reason, the FAA certifies that this amendment will not have a significant economic impact on a substantial number of small entitis under the criteria of the Regulatory Flexibility Act.

List of Subjects in 14 CFR Part 97

Air traffic control, Airports, Navigation (air).

Issued in Washington, DC on July 5, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

§§ 97.23, 97.25, 97.27, 97.29, 97.31, 97.33, and 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective August 8, 2002

Sacramento, CA, Sacramento Intl, NDB RWY 34R, Amdt 1

Sacramento, CA, Sacramento Intl, NDB RWY 34, Amdt 5

Sacramento, CA, Sacramento Intl, ILS RWY 16R, Amdt 14

Sacramento, CA, Sacramento Intl, ILS RWY 16L, Amdt 1

Sacramento, CA, Sacramento Intl, ILS RWY 34L, Amdt 6

Sacramento, CA, Sacramento Intl, RNAV (GPS) RWY 16R, Orig

Sacramento, CA, Sacramento Intl, RNAV (GPS) RWY 16L, Orig

Sacramento, CA, Sacramento Intl, RNAV (GPS) RWY 34R, Orig

Sacramento, CA, Sacramento Intl, RNAV (GPS) RWY 34L, Orig

San Jose, CA, Norman Y Mineta San Jose Intl, RNAV (GPS) RWY 11, Orig

San Jose, CA, Norman Y Mineta San Jose Intl, RNAV (GPS) RWY 29, Orig

Denver, CO, Denver Intl, ILS RWY 7, Amdt 2

Denver, CO, Denver Intl, ILS RWY 8, Amdt 3

Denver, CO, Denver Intl, ILS RWY 16, Amdt 2

Denver, CO, Denver Intl, ILS RWY 17L, Amdt 2

Denver, CO, Denver Intl, ILS RWY 17R, Amdt 2

Denver, CO, Denver Intl, ILS RWY 25, Amdt 2

Denver, CO, Denver Intl, ILS RWY 26, Amdt 2

Denver, CO, Denver Intl, ILS RWY 34, Amdt 1

Denver, CO, Denver Intl, ILS RWY 35L, Amdt 3

Denver, CO, Denver Intl, ILS RWY 35R, Amdt 1

Denver, CO, Denver Intl, RNAV (GPS) RWY 7, Orig

Denver, CO, Denver Intl, RNAV (GPS) RWY 8, Orig

Denver, CO, Denver Intl, RNAV (GPS) RWY 16, Orig

Denver, CO, Denver Intl, RNAV (GPS) RWY 17L, Orig

Denver, CO, Denver Intl, RNAV (GPS) RWY 17R, Orig

Denver, CO, Denver Intl, RNAV (GPS) RWY 25, Orig

Denver, CO, Denver Intl, RNAV (GPS) RWY 26, Orig

Denver, CO, Denver Intl, RNAV (GPS) RWY 34, Orig

Denver, CO, Denver Intl, RNAV (GPS) RWY 35L, Orig

Denver, CO, Denver Intl, RNAV (GPS) RWY 35R, Orig

Jacksonville, FL, Jacksonville Intl, VOR RWY 31, Orig-D

Gainesville, FL, Gainesville Regional, LOC/DME BC RWY 10, Orig, CANCELLED

Statesboro, GA, Statesboro-Bulloch County, LOC RWY 32, Amdt 4C, CANCELLED

Statesboro, GA, Statesboro-Bulloch County, NDB RWY 32, Amdt 5

Statesboro, GA, Statesboro-Bulloch County, ILS RWY 32, Orig

Statesboro, GA, Statesboro-Bulloch County, RNAV (GPS) RWY 32, Orig

Hilo, HI, Hilo Intl, VOR-B, Orig-A

Hilo, HI, Hilo Intl, VOR/DME OR TACAN-A, Amdt 7A

Hilo, HI, Hilo Intl, VOR/DME OR TACAN RWY 26, Amdt 5A

Hilo, HI, Hilo Intl, RNAV (GPS) RWY 21, Orig

Hilo, HI, Hilo Intl, RNAV (GPS) RWY 26, Orig

Boston, MA, General Edward Lawrence Logan Intl, VOR/DME RWY 15R, Amdt 2

Boston, MA, General Edward Lawrence Logan Intl, NDB RWY 22L, Amdt 11A

Boston, MA, General Edward Lawrence Logan Intl, ILS RWY 15R, Amdt 1

Boston, MA, General Edward Lawrence Logan Intl, ILS RWY 27, Amdt 2

Boston, MA, General Edward Lawrence Logan Intl, ILS RWY 33L, Amdt 2

Boston, MA, General Edward Lawrence Logan Intl, RNAV (GPS) RWY 15R, Orig Amdt 1

Boston, MA, General Edward Lawrence Logan Intl, RNAV (GPS) RWY 22L, Orig

Boston, MA, General Edward Lawrence Logan Intl, RNAV (GPS) RWY 27, Orig

Boston, MA, General Edward Lawrence Logan Intl, RNAV (GPS) RWY 33L, Orig

Boston, MA, General Edward Lawrence Logan Intl, GPS RWY 27, Orig CANCELLED

Boston, MA, General Edward Lawrence Logan Intl, GPS RWY 33L, Orig CANCELLED

St. Ignace, MI, Mackinac County, RNAV (GPS) RWY 07, Orig

St. Ignace, MI, Mackinac County, RNAV (GPS) RWY 25, Orig

New York, NY, John F. Kennedy Intl, COPTER RHAV (GPS) 028, Orig

Newburg, NY, Stewart Intl, NDB RWY 9, Amdt 8B

Newburg, NY, Stewart Intl, NDB RWY 9, Orig

Newburg, NY, Stewart Intl, RNAV (GPS) RWY 16, Orig

Newburg, NY, Stewart Intl, GPS RWY 16, Orig, CANCELLED

Newburg, NY, Stewart Intl, RNAV (GPS) RWY 17, Orig

Newburg, NY, Stewart Intl, GPS RWY 27, Orig, CANCELLED

Newburg, NY, Stewart Intl, RNAV (GPS) RWY 34, Orig

Syacuse, NY, Syracuse Hancock Intl, ILS RWY 10, Amdt 10

Syacuse, NY, Syracuse Hancock Intl, ILS RWY 28, Amdt 33

Syacuse, NY, Syracuse Hancock Intl, RNAV (GPS) Y RWY 10, Orig

Syacuse, NY, Syracuse Hancock Intl, RNAV (GPS) Z RWY 10, Orig

Syacuse, NY, Syracuse Hancock Intl, RNAV (GPS) Y RWY 15, Orig

Syacuse, NY, Syracuse Hancock Intl, RNAV (GPS) Z RWY 15, Orig

Syacuse, NY, Syracuse Hancock Intl, RNAV (GPS) RWY 28, Orig

Syacuse, NY, Syracuse Hancock Intl, RNAV (GPS) RWY 33, Orig

Syacuse, NY, Syracuse Hancock Intl, GPS RWY 10, Orig-B, CANCELLED

Syacuse, NY, Syracuse Hancock Intl, GPS RWY 15, Orig-B, CANCELLED

Syacuse, NY, Syracuse Hancock Intl, GPS RWY 28, Orig-A, CANCELLED

Syacuse, NY, Syracuse Hancock Intl, GPS RWY 33, Orig-C, CANCELLED

Las Vegas, NV, McCarran Intl, RNAV (GPS) RWY 25R, Orig

Dayton, OH, James M. Cox Dayton Intl, ILS RWY 6L, Amdt 8

Dayton, OH, James M. Cox Dayton Intl, ILS RWY 18, Amdt 9

Dayton, OH, James M. Cox Dayton Intl, RNAV (GPS) RWY 6L, Orig

Dayton, OH, James M. Cox Dayton Intl, GPS RWY 6L, Orig, CANCELLED

Dayton, OH, James M. Cox Dayton Intl, RNAV (GPS) RWY 6R, Orig

Dayton, OH, James M. Cox Dayton Intl, RNAV (GPS) RWY 24L, Orig

Dayton, OH, James M. Cox Dayton Intl, RNAV (GPS) RWY 24R, Orig

Dayton, OH, James M. Cox Dayton Intl, VOR/DME RNAV OR GPS RWY 6R, Amdt 8A, CANCELLED

Dickson, TN, Dickson Muni, VOR/DME RWY 17, Amdt 4B

Smithville, TN, Smithville Muni, NDB RWY 24, Amdt 2, CANCELLED

Cheyenne, WY, Cheyenne, Radar-1, Orig

* * * Effective October 3, 2002

Flora, IL, Flora Muni, LOC/DME RWY 21, Orig

Flora, IL, Flora Muni, NBD RWY 21, Amdt 5

The FAA published an Amendment in Docket No. 30313, Amdt No. 3009 to Part 97 of the Federal Aviation Regulations 67 FR 40594-40595; dated June 13, 2002) under section 97.23 effective August 8, 2002, which is hereby amended as follows:

San Juan, PR, Luis Munoz Marin Intl, VOR Rwy 26, Amdt 19

The FAA published the following procedures in Docket No. 30313; Amdt. No. 3009 to Part 97 of the Federal Aviation Regulations (67 FR 40594-40595: dated, June 13, 2002) under section 97.33 effective August 8, 2002 which are hereby rescinded:

Mammoth Lakes, CA, Mammoth Yosemite, RNAV (GPS) RWY 27, Orig

Mammoth Lakes, CA, Mammoth Yosemite, GPS RWY 27, Orig-A CANCELLED

The FAA published an Amendment in Docket No. 30316, Amdt No. 3011 to Part 97 of the Federal Aviation Regulations (67 FR 43530-43532; dated June 28, 2002) under section 97.23 effective August 8, 2002, which is hereby amended as follows:

New York, NY, John F. Kennedy Intl, COPTER RNAV (GPS) 028, Orig

The FAA published the following procedures in Docket No. 30316, Amdt No. 3011 to Part 97 of the Federal Aviation Regulations (67 FR 43530-43532; dated June 28, 2002) under section 97.23 effective August 8, 2002, which is hereby amended as follows:

Searcy, AR, Searcy Muni, RNAV (GPS) RWY 1, Orig

Searcy, AR, Searcy Muni, RNAV (GPS) RWY 19, Orig

Searcy, AR, Searcy Muni, NDB RWY 1, Amdt 4

Searcy, AR, Searcy Muni, GPS RWY 19, Amdt 1B, CANCELLED

Dallas-Fort Worth, TX, Dallas/Fort Worth International, ILS RWY 18R, Amdt 6

Dallas-Fort Worth, TX, Dallas/Fort Worth International, Converging ILS RWY 18R, Amdt 4

Dallas-Fort Worth, TX, Dallas/Fort Worth International, RNAV (GPS) RWY 18R, Orig

[FR Doc. 02-17581 Filed 7-16-02; 8:45 am]

BILLING CODE 4910-13-M